DEPARTMENT OF HEALTH AND HUMAN SERVICES

Centers for Disease Control and Prevention

[60Day-19-19BX; Docket No. CDC-2018-0107]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Understanding How Discounting Affects Decision Making and Adoption of Prevention Through Design Solutions. The goal of this information collection is to understand the social and organizational factors that may increase or decrease the adoption of practices that keep workers safe.

DATES: CDC must receive written comments on or before February 8, 2019.

ADDRESSES: You may submit comments, identified by Docket No. CDC-2018-0107 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all Federal comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Understanding How Discounting Affects Decision Making and Adoption of Prevention Through Design Solutions—New—National Institute for Occupational Safety and Health, Centers for Disease Control and Prevention (CDC).

Background and Brief Description

As mandated in the Occupational Safety and Health Act of 1970 (Pub. L. 91-596), the mission of NIOSH is to conduct research and investigations on occupational safety and health. This project will focus on understanding the decision-making processes of small wholesale and small retail businesses in regards to the adoption of fall-prevention solutions. Slips, trips, and falls are major sources of workplace injury across all industry sectors and represent a significant burden. In the wholesale and retail trade sectors, slips, trips, and falls account for 25% of all reported injuries. By definition, small businesses employ fewer numbers of people, therefore a slip, trip, or fall resulting in an injury is less likely to occur in any given establishment. Small business employers may underestimate the risks associated with occupational slips, trips, and falls because they have not experienced them and therefore do not take the necessary steps to prevent them.

One of the best ways to prevent and control occupational injuries, illnesses, and fatalities is to “design out” or minimize hazards and risks. NIOSH's Prevention Through Design Initiative focuses on this concept through the inclusion of prevention considerations in all designs that impact workers. Although employers' decisions can lead to the successful implementation of Prevention Through Design, fall-prevention solutions are not well understood. More information is needed to better understand the motivational, social, and organizational factors that affect employers' decisions to adopt fall-prevention solutions. This project will combine traditional surveys with behavioral economic methodologies to understand the decision-making processes related to the adoption of fall-prevention solutions. By using behavioral economic principles and methods, this study will pose hypothetical, but realistic, scenarios to small business employers to assess the influence of several factors on the patterns of decisions. One of the goals of the study is to assess the subjective value of fall-prevention solutions based on their costs and effort required to use them. To quantify the subjective value of fall-prevention solutions, this project will use the behavioral economic principles to assess the trade-offs small business owners make among the cost of fall prevention solutions, the amount of effort require to assemble them, and the amount of time they take to assemble. One of the behavioral economic principles is discounting, in which the value of a product or outcome decreases as the cost, effort, or delay associated with it increases. For example, small-business owners may “discount” the value of a fall-prevention solution if it requires great effort to assemble,

The survey will include instruments to obtain demographic information (age, gender, income, etc.), organizational safety information (e.g., “Has someone at your place of work ever been injured?”), and behavioral economic discounting assessments. For the behavioral economic questions in the survey, participants will be asked to make choices about hypothetical, but realistic, scenarios that assess the influence of several factors on the patterns of decision-making. To date, no study has quantitatively assessed the safety-related decision-making processes of small business employers from a behavioral economic perspective. Previous studies in this area consist of qualitative studies of some factors that affect occupational safety and health of small businesses. This study will address a knowledge gap in the professional and scientific literature by contributing quantitative data to a problem that has been overlooked. The results for this study are meant for theory development and are not intended to be nationally representative.

The sample size for this survey will be 100 small business employers in the wholesale or retail trade sectors. This sample size is based on a power analysis which indicated that 100 respondents would be sufficient to detect any correlations between the organizational or demographic variables and the behavioral economic measures of decision making. Each web-based survey will take approximately 30 minutes to complete, resulting in an annualized burden estimate of 50 hours. There is no cost to respondents other than their time.

Estimated Annualized Burden Hours
Type of respondents | Form name | Number of respondents | Number of responses per respondent | Average burden per response (in hours) | Total burden (in hours)
Small business employers | Survey | 100 | 1 | 30/60 | 50
Total |  |  |  |  | 50

Jeffrey M. Zirger,
Acting Lead, Information Collection Review Office, Office of Scientific Integrity, Office of Science, Centers for Disease Control and Prevention.

[FR Doc. 2018-26636 Filed 12-7-18; 8:45 am]

BILLING CODE 4163-18-P